DEPARTMENT OF AGRICULTURE

Forest Service

Nye/White Pine County Resource Advisory Committee (RAC)

AGENCY: Forest Service, USDA.

ACTION: Notice of meeting.

SUMMARY: The Nye/White Pine County Resource Advisory Committee (RAC) will hold a meeting.

DATES: The meeting will be held on January 11th, 2011 and will begin at 10 a.m.

ADDRESSES: The meeting will be held in Nye County at the Bureau of Land Management, 1553 S. Erie Main Street, Tonopah, Nevada 89049.

FOR FURTHER INFORMATION CONTACT: Jose Noriega, RAC Coordinator, USDA, Humboldt-Toiyabe National Forest, Ely Ranger District, 825 Avenue E Ely, NV 89301 (775) 289-3031; e-mail jnoriega@fs.fed.us.

SUPPLEMENTARY INFORMATION: Agenda items include: (1) Introductions, getting acquainted; (2) Understand the role of the committee under the Act; (3) Review operational guides; (4) Elect Chairperson; (5) Review and recommend funding allocation for proposed projects; (6) Determine timeframes for the next round of project proposals; and (7) Public Comment. The meeting is open to the public. Public input opportunity will be provided and individuals will have the opportunity to address the Committee at that time.

Dated: December 1, 2010.
Steven Williams,
Designated Federal Official.

[FR Doc. 2010-32535 Filed 12-30-10; 8:45 am]

BILLING CODE 3410-11-M